FEDERAL EMERGENCY MANAGEMENT AGENCY

[FEMA-1355-DR]

Oklahoma; Amendment No. 7 to Notice of a Major Disaster Declaration

AGENCY: Federal Emergency Management Agency (FEMA).

ACTION: Notice.

SUMMARY: This notice amends the notice of a major disaster for the State of Oklahoma (FEMA-1355-DR), dated January 5, 2001, and related determinations.

EFFECTIVE DATE: February 5, 2001.

FOR FURTHER INFORMATION CONTACT: Madge Dale, Response and Recovery Directorate, Federal Emergency Management Agency, Washington, DC 20472, (202) 646-3772.

SUPPLEMENTARY INFORMATION: Notice is hereby given that as authorized by the President in a letter dated January 18, 2001, FEMA is extending the time period for reimbursement at 90 percent of the costs of debris removal through July 6, 2001.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Lacy E. Suiter,
Executive Associate Director, Response and Recovery Directorate.

[FR Doc. 01-4133 Filed 2-16-01; 8:45 am]

BILLING CODE 6718-02-P